DEPARTMENT OF LABOR

Mine Safety and Health Administration (MSHA)

30 CFR Part 3

Office of Management and Budget Control Numbers Under the Paperwork Reduction Act

Correction

In rule document 00-16528 beginning on page 40498 in the issue of Friday, June 30, 2000 make the following correction:

§3.1 [Corrected]

On page 40501, in Table 1, in §3.1, under the heading “Subchapter O ”, “171.403 ” should read “71.403 ”.

[FR Doc. C0-16528 Filed 7-10-00; 8:45 am]

BILLING CODE 1505-01-D CORRECTIONS

DEPARTMENT OF LABOR

Pension and Welfare Benefits Administration

Agency Information Collection Activities; Announcement of OMB Approval

Correction

In notice document 00-16322 beginning on page 39952 in the issue of Wednesday, June 28, 2000, make the following correction:

On page 39952, in the second column, under SUPPLEMENTARY INFORMATION, in the second paragraph, in the tenth line, “OMB control number 1210-0101” should read “OMB control number 1210-0102”.

[FR Doc. C0-16322 Filed 7-10-00; 8:45 am]

BILLING CODE 1505-01-D